DEPARTMENT OF HEALTH AND HUMAN SERVICES

Centers for Disease Control and Prevention

[60Day-04-48]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandra Gambescia, CDC Assistant Reports Clearance Officer, 1600 Clifton Road, MS-E11, Atlanta, GA 30333. Written comments should be received within 60 days of this notice.

Proposed Project

The Minority HIV/AIDS Research Initiative: Access to HIV Care and Testing in the Rural South—New—The National Center for HIV, STD, and TB Prevention (NCHSTP), Centers for Disease Control and Prevention (CDC).

Background

CDC is requesting from Office of Management and Budget (OMB) a 3 year approval to administer a survey to local health departments and testing sites. As part of the Minority HIV/AIDS Research Initiative (MARI), CDC is funding a study that examines access to HIV care and testing in the rural South. The objectives of the study are twofold: (1) Determine the local availability of HIV counseling and testing, and identify HIV treatment venues (HIV doctor or clinic) in non-urban counties in the South, and (2) provide information to improve the availability of testing and treatment in the South.

Identifying barriers to accessing care in the South is relevant to selected goals and objectives in the CDC's “HIV Prevention Strategic Plan Through 2005”. This plan identifies the goal to increase from the current estimated 70% to 95% the proportion of HIV-infected people in the United States who know they are infected through voluntary counseling and testing. CDC plans to meet this goal by: (1) Increasing the motivation of at-risk individuals to know their infection status and decrease real and perceived barriers to HIV testing; and (2) improve access to voluntary, client-centered counseling and testing (VCT) in high seroprevalence communities and populations at risk, focusing particularly on populations with high rates of undiagnosed infection. This study is relevant to the goals of CDC's Strategic Plan for 2005 and the Advancing HIV Prevention Initiative (AHP) to reduce barriers to HIV testing that impede those at risk from receiving HIV prevention services. Moreover, this study compliments the AHP by providing the local service systems with a current visual depiction of HIV testing barriers in rural counties that will help address programming concerns to ultimately improve access to HIV testing and prevention services.

A sample from 325 counties will be selected from ten U.S. Southern states (Alabama, Arkansas, Florida, Georgia, Louisiana, Mississippi, North Carolina, South Carolina, Tennessee, and Virginia). Census Bureau Statistical Area data was used to identify 325 rural counties within the 10 Southern states that meet the definition of a non-metropolitan statistical area and/or cluster with a population of less than 50,000. There will be two phases to the survey of the rural counties. The first phase will be based on quantitative survey design, while the second will use qualitative face-to-face, one-on-one interviewing techniques.

During the initial phase, the following will be contacted and surveyed from each county: (a) Local Health Department; (b) two HIV testing & counseling venues; and (c) two HIV treatment sites. This will result in a total of 1,000 contacts on a one time basis. To help reduce burden, respondents will be interviewed by survey over the telephone using a Computer Assisted Telephone Interview (CATI) technology. Telephone surveys will take approximately fifteen minutes to complete, and will be limited to the absolute minimum number of questions required for the intended use of the data.

Using purposive sampling techniques in which respondents will be selected because of some county characteristic, 20 county representatives will be selected for a one time in-depth qualitative interview. These in-person audio-taped interviews will explore HIV testing and treatment issues using open-ended questions to help provide important details for clarifying, or illustrating survey results. No personal identifiers will be collected for these interviews. Audio-tapes and resulting transcripts will be treated in a confidential manner, unless otherwise compelled by the law. It will take approximately two hours to complete the interview. Therefore, the total burden hours for collecting this data will be 290 hours.

CDC has contracted this study to an Alliance Quality Education organization to provide support costs for data collection and analysis. There is no cost to respondents except for their time.

Respondents | Number of respondents | Number of responses per respondent | Average burden response (in hrs.) | Total burden hours
Telephone Survey | 2275 | 1 | 15/60 | 569
Qualitative Interviews | 20 | 1 | 2 | 40
Total |  |  |  | 609

Dated: April 23, 2004.
Bill J. Atkinson,
Acting Director, Management Analysis and Services Office, Centers for Disease Control and Prevention.

[FR Doc. 04-9935 Filed 4-30-04; 8:45 am]

BILLING CODE 4163-18-P